DEPARTMENT OF HOMELAND SECURITY

Federal Emergency Management Agency

[Docket ID FEMA-2020-0002; Internal Agency Docket No. FEMA-B-2018]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before June 25, 2020.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-2018, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Iowa County, Iowa and Incorporated Areas
Project: 17-07-0294S Preliminary Date: July 24, 2019
City of Ladora | City Hall, 806 Pacific Street, Ladora, IA 52251.
City of Marengo | City Hall, 153 East Main Street, Marengo, IA 52301.
City of North English | City Hall, 200 South Main Street, North English, IA 52316.
City of Victor | City Hall, 707 2nd Street, Victor, IA 52349.
City of Williamsburg | City Hall, 210 West State Street, Williamsburg, IA 52361.
Unincorporated Areas of Iowa County | Auditor's Office, 970 Court Avenue, Marengo, IA 52301.
Palo Alto County, Iowa and Incorporated Areas
Project: 16-07-2362S Preliminary Date: June 27, 2019
City of Curlew | Town Hall, 102 Godwit, Curlew, IA 50527.
City of Cylinder | City Building, 217 Main Street, Cylinder, IA 50528.
City of Emmetsburg | City Hall, 2021 Main Street, Emmetsburg, IA 50536.
City of West Bend | City Hall, 301 South Broadway Avenue, West Bend, IA 50597.
Unincorporated Areas of Palo Alto County | Palo Alto County Emergency Management Office, 1907 11th Street, Emmetsburg, IA 50536.
Winneshiek County, Iowa and Incorporated Areas
Project: 17-07-0397S Preliminary Date: January 15, 2019
City of Calmar | City Hall, 101 South Washington Street, Calmar, IA 52132.
City of Decorah | City Hall, 400 Claiborne Drive, Decorah, IA 52101.
City of Fort Atkinson | City Hall, 98 Elm Street, Fort Atkinson, IA 52144.
City of Jackson Junction | City Hall, 1201 County Road V68, Jackson Junction, IA 52171.
City of Ossian | City Hall, 123 West Main Street, Ossian, IA 52161.
City of Spillville | Spillville Public Library, 201 Oak Street, Spillville, IA 52168.
Unincorporated Areas of Winneshiek County | Winneshiek County Courthouse, 201 West Main Street, Decorah, IA 52101.
Wabaunsee County, Kansas and Incorporated Areas
Project: 15-07-0283S Preliminary Date: October 25, 2019
City of Alma | City Hall, 326 Missouri Avenue, Alma, KS 66401.
City of Alta Vista | City Hall, 521 Main Street, Alta Vista, KS 66834.
City of Eskridge | City Hall, 110 South Main Street, Eskridge, KS 66423.
City of Harveyville | City Hall, 274 West Oak Street, Harveyville, KS 66431.
City of McFarland | City Hall, 518 Rock Island Road, McFarland, KS 66501.
City of Paxico | Wabaunsee County Courthouse, 215 Kansas Avenue, Alma, KS 66401.
Unincorporated Areas of Wabaunsee County | Wabaunsee County Courthouse, 215 Kansas Avenue, Alma, KS 66401.

[FR Doc. 2020-06411 Filed 3-26-20; 8:45 am]

BILLING CODE 9110-12-P